COMMITTEE FOR PURCHASE FROM PEOPLE WHO ARE BLIND OR SEVERELY DISABLED

Procurement List Proposed Additions and Deletions

AGENCY: Committee for Purchase From People Who Are Blind or Severely Disabled.

ACTION: Proposed Additions to and Deletions from the Procurement List.

SUMMARY: The Committee is proposing to add products to the Procurement List that will be furnished by a nonprofit agency employing persons who are blind or have other severe disabilities and, deletes services previously furnished by such agencies.

Comments Must be Received on Or Before: 4/24/2016.

ADDRESSES: Committee for Purchase From People Who Are Blind or Severely Disabled, 1401 S. Clark Street, Suite 715, Arlington, Virginia 22202-4149.

For Further Information or To Submit Comments Contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products listed below from the nonprofit agency employing persons who are blind or have other severe disabilities.

The following products are proposed for addition to the Procurement List for production by the nonprofit agency listed:

NSN(s)—Product Name(s)

7220-00-NSH-0022—Mat, Floor, Chair, 45″ x 53″ x 0.110″, w/20″ x 12″ Lip

7220-00-NSH-0023—Mat, Floor, Chair, 45″ x 53″ x 0.110″, w/25″ x 12″ Lip

7220-00-NSH-0024—Mat, Floor, Chair, 46″ x 60″ x 0.110″, w/25″ x 12″ Lip

7220-00-NSH-0025—Mat, Floor, Chair, 46″ x 60″ x 0.110″, Without Lip

7220-00-NSH-0026—Mat, Floor, Chair, 60″ x 60″ x 0.110″, Without Lip

7220-00-NSH-0030—Mat, Floor, Chair, 36″ x 48″ x 0.150″, w/20″ x 12″ Lip

7220-00-NSH-0031—Mat, Floor, Chair, 45″ x 53″ x 0.150″, w/25″ x 12″ Lip

7220-00-NSH-0032—Mat, Floor, Chair, 45″ x 53″ x 0.150″, w/20″ x 12″ Lip

7220-00-NSH-0033—Mat, Floor, Chair, 45″ x 53″ x .220″, w/20″ x 12″ Lip

7220-00-NSH-0035—Mat, Floor, Chair, 46″ x 60″ x .150″, Without Lip

7220-00-NSH-0036—Mat, Floor, Chair, 46″ x 60″ x .150″, w/25″ x 12″ Lip

7220-00-NSH-0038—Mat, Floor, Chair, 46″ x 60″ x .220″, w/25″ x 12″ Lip

7220-00-NSH-0039—Mat, Floor, Chair, 46″ x 60″ x .220″, Without Lip

7220-00-NSH-0040—Mat, Floor, Chair, 60″ x 60″ x .150″, Without Lip

Mandatory Source(s) of Supply: Northeastern Michigan Rehabilitation and Opportunity Center, Alpena, MI

Mandatory for: Total Government Requirement

Contracting Activity: General Services Administration, New York, NY

Distribution: A-List

Deletions

The following services are proposed for deletion from the Procurement List:

Services

Service Type: Switchboard Service

Service Mandatory For: Minot Air Force Base, Minot AFB, ND

Mandatory Source of Supply: MVW Services, Inc., Minot, ND

Contracting Activity: Dept of the Air Force, FA4528 5 CONS LGCP, Minot AFB, ND

Service Type: Library Service

Service Mandatory For: Minot Air Force Base, Minot AFB, ND

Mandatory Source of Supply: MVW Services, Inc., Minot, ND

Contracting Activity: Dept of the Air Force, FA7014 AFDW PK, Andrews AFB, MD

Service Type: Mess Attendant Service

Service Mandatory For: 192d FW VA Air National Guard, Sandston, VA

Mandatory Source of Supply: Richmond Area Association for Retarded Citizens, Richmond, VA

Contracting Activity: Dept of the Air Force, FA7014 AFDW PK, Andrews AFB, MD

Service Type: Switchboard Operation Service

Service Mandatory For: Ellsworth Air Force Base, Ellsworth AFB, SD

Mandatory Source of Supply: BH Services, Inc., Ellsworth AFB, SD

Contracting Activity: Dept of the Air Force, FA4690 28 CONS LGC, Ellsworth AFB, SD

Barry S. Lineback,
Director, Business Operations.

[FR Doc. 2016-06826 Filed 3-24-16; 8:45 am]

BILLING CODE 6353-01-P